DEPARTMENT OF THE INTERIOR

Bureau of Land Management

[BLM_CO_FRN_MO4500169083]

Notice of Competitive Offer for Solar Energy Development on Public Lands in Saguache County, CO

AGENCY: Bureau of Land Management, Interior.

ACTION: Notice of competitive offer.

SUMMARY: The Bureau of Land Management (BLM), Rocky Mountain District, Cañon City, Colorado, will accept competitive bids to lease public lands for solar energy projects on approximately 1,064 acres in Saguache County, Colorado.

DATES: The BLM will hold a competitive live auction at 10 a.m. local time on April 27, 2023.

ADDRESSES: The auction will be held at: BLM Rocky Mountain District Office, 3028 East Main Street, Cañon City, CO 81212.

FOR FURTHER INFORMATION CONTACT: Cathy Cook, District Manager, BLM Rocky Mountain District Office, by telephone: 719-269-8554 or email: ccook@blm.gov. Individuals in the United States who are deaf, deafblind, hard of hearing, or have a speech disability may dial 711 (TTY, TDD, or TeleBraille) to access telecommunications relay services for contacting Ms. Cook. Individuals outside the United States should use the relay services offered within their country to make international calls to the point-of-contact in the United States.

SUPPLEMENTARY INFORMATION: The BLM Rocky Mountain District Office has received interest to lease lands within the De Tilla Gulch Solar Energy Zone (SEZ). The BLM will offer a lease for solar energy development within the SEZ in accordance with the competitive process described in 43 CFR part 2800, subpart 2809.

Based on the expressed interest, the SEZ will be offered in its entirety. The SEZ being offered for competitive solar lease is described in Public Land Order No. 7818, published in the Federal Register on July 5, 2013 (78 FR 40499), and available at: https://www.federalregister.gov/documents/2013/07/05/2013-16215/public-land-order-no-7818-withdrawal-of-public-lands-for-the-protection-and-preservation-of-solar, with additional information as follows:

De Tilla Gulch Solar Energy Zone

Saguache County, Colorado

The De Tilla Gulch SEZ consists of approximately 1,064 contiguous acres of public land, identified in the 2012 Final Programmatic Environmental Impact Statement for Solar Energy Development in Six Southwestern States (Solar Programmatic EIS) and subsequent Approved Resource Management Plan (Solar RMP) Amendments/Record of Decision (ROD) as suitable for utility-scale solar energy development. The De Tilla Gulch SEZ is managed by the BLM's San Luis Valley Field Office. Detailed information on this SEZ, including maps, completed resource studies, and recommended design features can be viewed and downloaded at: https://blmsolar.anl.gov/solar-peis/sez/co/de-tilla-gulch/.

As provided in 43 CFR 2809.13(a), bidding will occur in a competitive auction, conducted in-person. The auction will be open to the public with potential limitations based on room capacity, and the event may be live-streamed. More information will be made available at https://eplanning.blm.gov/eplanning-ui/project/2020899/510. Interested bidders are required to pre-register by accessing the ePlanning site no later than 1 week prior to the scheduled auction to allow sufficient time for the BLM to verify qualifications. Under the requirements of 43 CFR 2803.10, qualified bidders must be:

• An individual, association, corporation, partnership, or similar business entity, or a Federal agency or State, Tribal, or local government;

• Technically and financially able to construct, operate, maintain, and terminate the use of the public lands being applied for; and

• Of legal age and authorized to do business in Colorado.

Bidders must have or be able to demonstrate technical and financial capability to construct, operate, maintain, and terminate a project throughout the leasing process and authorization period. You can demonstrate your financial and technical capability to construct, operate, maintain, and terminate a project by:

• Providing documentation of any previous successful experience in construction, operation, and maintenance of a similar facility on either public or non-public lands;

• Providing information on the availability of sufficient capitalization to carry out development, including the preliminary study stage of the project and the environmental review and clearance process; or

• Providing written copies of conditional commitments of Federal and other loan guarantees; confirmed power purchase agreements; engineering, procurement, and construction contracts; and supply contracts with credible third-party vendors for the manufacture or supply of key components for the project facilities.

Pre-registered bidders will be confirmed and assigned a bidder number before the auction commences. Complete details and frequently asked questions on the screening and bidding process can be found online at: https://eplanning.blm.gov/eplanning-ui/project/2020899/510.

The BLM has determined a minimum acceptable bid for the De Tilla Gulch SEZ of $35,824.88. The minimum bid consists of the following:

(1) Administrative costs incurred by the BLM—An administrative fee of approximately $6.79 per acre to cover the BLM's costs in preparing for and conducting the competitive offer, including preparation of the 2022 Offer for Competitive Leasing for De Tilla Gulch SEZ Determination of NEPA Adequacy; and

(2) An amount determined by the authorized officer based on known or potential values of the parcel—In setting this amount, the BLM considered 100 percent of the acreage rent. The rent value of the land for the current year under the BLM's solar rental schedule was used.

The competitive offer will start at the minimum bid, and bidders may raise with subsequent bonus bids. The bidder with the highest total bid (minimum plus bonus bid) at the close of the auction will be declared the successful bidder and will be offered a ROW lease within the SEZ subject to payment terms, outlined as follows.

If you are the successful bidder, payment of the minimum bid and at least 20 percent of the winning bonus bid must be submitted to the BLM Rocky Mountain District by the close of business on the day of the auction.

Within 15 calendar days after the auction, you must pay the balance of the bonus bid and the first 12 months acreage rent to the Rocky Mountain District Office overseeing management of the San Luis Valley Field Office. Any required payments must be submitted by personal check, cashier's check, certified check, ACH bank draft, or money order, or by other means deemed acceptable by the BLM, payable to the Department of the Interior—Bureau of Land Management.

The BLM will offer you a ROW lease if you are the successful bidder and you: (1) satisfy the qualifications in 43 CFR 2803.10; (2) make the required payments listed earlier; and (3) do not have any trespass action pending against you for any activity on BLM-administered lands or have any unpaid debts owed to the Federal Government. If the successful bidder does not satisfy these requirements, the BLM will not offer a lease to that bidder and will keep all money that has been submitted. In that event, the BLM may offer the lease to the next highest bidder; re-offer the lands through another competitive process; or make the lands available through the noncompetitive application process found in 43 CFR parts 2803, 2804, and 2805. The BLM will not issue the lease to the successful bidder until it ensures compliance with the requirements in Section 50265(b)(1) of the Inflation Reduction Act (IRA) (codified at 43 U.S.C. 3006(b)(1)). The IRA conditions the issuance of rights-of-way for wind and solar energy development on public lands on: (1) the BLM having held an onshore oil and gas lease sale during the 120-day period before the issuance of the right-of-way for wind or solar energy development; and (2) the BLM having offered—in the 1-year period preceding the date of the issuance of the solar or wind right-of-way—the lesser of 2 million acres or 50 percent of the oil and gas acreage for which expressions of interest had been submitted in that year.

The administrative fee portion of the minimum bid from the successful bidder will be retained by the agency to recover administrative costs for conducting the competitive bid and related processes. The remainder of the minimum bid and bonus bid from the successful bidder will be deposited with the U.S. Treasury. Neither amount will be returned or refunded to the successful bidder under any circumstance. If you are not the successful bidder, the BLM will return or refund the bid amount submitted with your bid. If no bid is received for a SEZ, then no lease will be issued and the BLM may choose to make the lands available through the non-competitive application process found in 43 CFR parts 2803, 2804, and 2805, or by competitive process at a later date.

Any lease issued will be subject to the terms and conditions specified in 43 CFR 2809.18, and additional requirements identified in the decision to conduct the offer, listed as follows:

(1) The lessee will prepare the following management plans, if applicable, and submit them to the BLM as part of its plan of development (POD) for approval following the issuance of a lease for the Project and prior to the BLM issuing a Notice to Proceed with construction:

• Worker Education and Awareness Plan;

• Health and Safety Program and Plan;

• Bird and Bat Conservation Strategy;

• Fire Management Plan;

• Lighting Management Plan;

• Integrated Weed Management Plan;

• Site Drainage Plan;

• Traffic Management Plan;

• Groundwater Monitoring and Reporting Plan;

• Surface Water Quality Management Plan;

• Stormwater Pollution Prevention Plan;

• Dust Abatement Plan;

• Spill Prevention and Emergency Response Plan;

• Hazardous Materials and Waste Management Plan;

• Decommissioning and Site Reclamation Plan; and

• Site Rehabilitation and Restoration Plan.

(2) The lessee will comply with all relevant protective measures and design features established in the Solar RMP Amendments ROD signed on Oct. 12, 2012. Specifically reference Appendix A.

(3) All processes under 36 CFR part 800 will be completed (which would likely include a Class III cultural survey) prior to any ground disturbing activities. All historic properties found will be avoided or mitigated in consultation with State Historic Preservation Office.

(4) Any mitigation resulting from an adverse effect to historic properties will be addressed through a Memorandum of Agreement as outlined in the Solar Programmatic EIS Programmatic Agreement.

(5) Appropriate protection measures will be applied to existing improvements (e.g., canals and access to private lands) and rights-of-way within the SEZ and adjacent to other ancillary facilities (e.g., gen-tie line(s) and substation) required for development of any leased parcels.

(6) If a POD is approved, the leaseholder would be able to use common varieties of stone and soil that are necessarily removed during construction of the project, without additional BLM authorization or payment, in constructing the project within the authorized right-of-way.

(7) A 2-year grazing notification will be provided to all potentially affected livestock permittees, giving them 2 years to make any financial, business, or management decisions.

(8) The leaseholder will compensate the grazing permittees for any range improvements affected or lost by solar lease operations.

(9) The leaseholder will construct new fences that will continue to keep the allotments and pastures separated as needed to mitigate for the removal of allotment and pasture fences.

(10) Rights-of-way for livestock grazing driveways may be granted by the BLM through solar lease parcels if requested by grazing permittees.

(11) Any POD submitted must address mitigation and compensation strategies for impacts to livestock grazing, and any agreement with the affected grazing permittee addressing these mitigation and compensation strategies must be submitted to the BLM concurrently with the POD.

(12) Following submission of a POD, the BLM shall initiate project-specific consultation with the United States Fish and Wildlife Service (USFWS) under Section 7 of the Endangered Species Act, if necessary. Consultation with USFWS under the Migratory Bird Treaty Act and the Bald and Golden Eagle Protection Act may also be required. These consultations may result in “Take Permit(s)” containing additional design considerations, which the leaseholder will be required to incorporate into final project design, construction, and decommissioning plans.

(13) Once a POD is submitted, the BLM will determine whether a long-term monitoring strategy to establish quantitative monitoring objectives and indicators would need to be developed. The leaseholder or developer will be required to collect baseline data for this effort, in coordination with the BLM and other applicable agencies. For an example, see https://blmsolar.anl.gov/documents/docs/Final_Riverside_East_LTMS_from_website.pdf.

(14) If a POD is approved, the leaseholder or developer would be required to obtain all necessary State or Federal permits before engaging in any stream alteration or other activities affecting waterways.

(15) Prior to any ground-disturbing activity associated with an authorized POD, the leaseholder or developer will identify and protect evidence of the Public Land Survey System, as directed in 43 CFR 3809.420—Surface Management—(b)(9) Protection of survey monuments.

Additionally, the leaseholder will be subject to any measures the BLM identifies to address site-specific impacts to resources as part of the environmental review of leaseholder's proposed plan of development for the SEZ.

(Authority: 43 CFR 2809)

Douglas Vilsack,
BLM Colorado State Director.

[FR Doc. 2023-06027 Filed 3-23-23; 8:45 am]

BILLING CODE 4331-16-P